DEPARTMENT OF ENERGY

Federal Energy Regulatory Commission

[Docket No. RP00-556-000]

East Tennessee Natural Gas Company; Notice of Proposed Changes in FERC Gas Tariff

September 26, 2000.

Take notice that on September 22, 2000, East Tennessee Natural Gas Company (East Tennessee) tendered for filing as part of its FERC Gas Tariff, Second Revised Volume No. 1, the tariff sheets listed in Appendix A to the filing, to be effective October 15, 2000.

East Tennessee states that, on March 14, 2000, East Tennessee was acquired from El Paso Energy (El Paso) and became a wholly-owned subsidiary of Duke Energy Corporation (Duke). East Tennessee states that, pursuant to the Stock Purchase Agreement, El Paso entered into a Transition Agreement to ensure the smooth operation of the East Tennessee pipeline system for a period of up to nine months from the closing date (transition period). East Tennessee states that, during the transition period, East Tennessee's customers continued to use El Paso's electronic interface system (PASSKEY) to conduct their daily business activities while Duke made the necessary changes to implement the LINKr Customer Interface System for East Tennessee.

East Tennessee states that this filing: (1) reflects the implementation of the LINKr System for East Tennessee effective on October 15, 2000, (2) updates East Tennessee's mailing addresses and contact information, and (3) corrects certain tariff provisions to reflect appropriate cross references to other tariff provisions.

East Tennessee states that copies of its filing have been mailed to all affected customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties in the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25118 Filed 9-29-00; 8:45 am]

BILLING CODE 6717-01-M